DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Robert B. Tracy, Ph.D., University of Southern California and University of California, Davis: Based on Dr. Tracy's admission, the reports submitted by the University of Southern California (USC) and the University of California, Davis (UCD), and additional analysis conducted by ORI in its oversight review, the U.S. Public Health Service (PHS) found that Robert B. Tracy, Ph.D., former doctoral student at UCD, and former postdoctoral student at USC, engaged in scientific misconduct by falsifying and fabricating data in research supported by National Institute of Allergy and Infectious Diseases (NIAID), National Institutes of Health (NIH), grant R01 AI18987, “Mechanistic studies of genetic recombination,” and National Institute of General Medical Sciences (NIGMS), NIH, grant 1 R01 GM56984, “Mechanism of DNA recombination at class switch sequences.”

Dr. Tracy's doctoral research at UCD involved the analysis of the mechanisms used by various enzymes to repair damaged DNA, while his postdoctoral research at USC dealt with the molecular mechanism used by B-lymphocytes when switching from producing one class of immunoglobulin to another.

Specifically, PHS found that:

(1) In 1996 and 1997, Dr. Tracy falsified research supported by NIH grant R01 AI18987, “Mechanistic studies of genetic recombination,” while working on his doctoral dissertation at UCD. Dr. Tracy falsified Figure 6.2 of his Ph.D. thesis by adding discrete bands where there actually had only been a uniform smear of radioactivity, the effect being to suggest a result that had not been observed and was, therefore, falsified. The falsified image was not published.

(2) From 1998 to 2000, Dr. Tracy committed additional scientific misconduct while a postdoctoral fellow at USC in research funded by NIH grant R01 GM56984 “Mechanism of DNA recombination at class switch sequences.” Dr. Tracy falsified values in Table 1 of supplemental web material (http://www.sciencemag.org/features/data/1049221.shl) that accompanied a report published in Science (Tracy, R.B., Hsieh, C.-L., & Lieber, M.B., “Stable RNA/DNA hybrids in the mammalian genome: Inducible intermediates in immunoglobulin class switch recombination.” Science 288:1058-1061, 2000; the “Science paper”). In Table 1, Dr. Tracy misrepresented that lymphocytes from mice transgenic for ribonuclease H underwent significantly lower rates of isotope switching, as determined by the level of surface staining for immunoglobulin classes compared to control mice, when the actual data showed no such difference for IgG1 , IgG2b , and IgE isotope classes. Dr. Tracy also falsified Figures 2 and 4 of the supplemental web material published with the Science paper in that the results were not representative of multiple independent experiments as he claimed. In addition, Dr. Tracy falsified Figure 2C of the Science paper, which represented a crucial control to establish his claim that RNA/DNA hybrids were limited to immunoglobulin switch regions, by publishing a blot that was not representative of his overall results.

Dr. Tracy also falsified Figures 4 and 7 of a second paper (Tracy, R.B., & Lieber, M.R. “Transcription-dependent R-loop formation at mammalian class switch sequences.” EMBO J. 19:1055-1067, 2000, “EMBO J. paper”). In both figures, Dr. Tracy used the PhotoShop computer program to move bands or regions of a lane vertically relative to the rest of the gel, thus falsifying the size of molecules described in the paper. Lastly, Dr. Tracy reported these falsified data (as published in the Science and EMBO J. papers) in the progress report for NIH grant 5 R01 56984-03 in May 2000. Dr. Tracy and his coauthors retracted both the Science paper and the EMBO J. paper, in Science 289:1141, 2000, and in EMBO J. 19:4855, 2000, respectively.

Dr. Tracy has entered into a Voluntary Exclusion Agreement in which he has voluntarily agreed for a period of four (4) years beginning on May 1, 2002:

(1) To exclude himself from any contracting or subcontracting with any agency of the United States Government and from eligibility for, or involvement in, nonprocurement transactions (e.g., grants and cooperative agreements) of the United States Government as defined in 45 CFR Part 76 (Debarment Regulations); and

(2) To exclude himself from serving in any advisory capacity to PHS, including but not limited to service on any PHS advisory committee, board, and/or peer review committee, or as a consultant.

FOR FURTHER INFORMATION CONTACT: Director, Division of Investigative Oversight, Office of Research Integrity, 5515 Security Lane, Suite 700, Rockville, MD 20852, (301) 443-5330.

Chris B. Pascal,
Director, Office of Research Integrity.

[FR Doc. 02-12729 Filed 5-21-02; 8:45 am]

BILLING CODE 4150-31-P